DEPARTMENT OF HEALTH AND HUMAN SERVICES

Health Care Financing Administration

[HCFA-2089-CN]

RIN 0938-AK33

State Children's Health Insurance Program; Final Allotments to States, the District of Columbia, and U.S. Territories and Commonwealths for Fiscal Year 2001; Correction

AGENCY: Health Care Financing Administration (HCFA), HHS.

ACTION: Notice; correction.

SUMMARY: This notice corrects the final allotments for Fiscal Year 2001 that appeared in the notice concerning the State Children's Health Insurance Program (SCHIP) published in the Federal Register on January 3, 2001.

EFFECTIVE DATE: This correction is effective January 3, 2001.

FOR FURTHER INFORMATION CONTACT: Richard Strauss, (410) 786-2019.

SUPPLEMENTARY INFORMATION: On January 3, 2001, we published a final notice in the Federal Register (66 FR 376) that set forth the final allotments of Federal funding available to each State, the District of Columbia, and each U.S. Territory and Commonwealth for fiscal year (FY) 2001 under title XXI of the Social Security Act (the Act). There was an error in the computation of the FY 2001 allotments due to the fact that one of the formulas used in determining the allotments was incorrect. More specifically, the FY 1999 proportions were inadvertently applied twice in the calculation of the formula; the FY 1999 and FY 2000 proportions should have been applied instead. The term “proportion” is defined in section 2104(b)(4)(D)(I) of the Act and refers to a State's share of the total amount available for allotment for any given year. This document corrects the error made in the final notice.

Correction of Errors

In FR Doc. 01-69, published on January 3, 2001 (66 FR 376) make the following correction: On page 379, replace the text within the table entitled “Table of State Children's Health Insurance Program Final Allotments for FY 2001”. The column descriptions and keys from the January 3, 2001 document are included to assist the reader.

Table of State Children's Health Insurance Program Final Allotments for FY 2001

Key to Table

Column/Description

Column A = Name of State, District of Columbia, U.S. Commonwealth or Territory.

Column B = Number of Children. The Number of Children for each State (provided in thousands) was determined and provided by the Bureau of the Census based on the arithmetic average of the number of low-income children and low-income uninsured children, and is based on the three most recent March supplements to the CPS of the Bureau of the Census officially available before the beginning of the calendar year in which the fiscal year begins. The FY 2001 allotments were based on the 1997, 1998, and 1999 March supplements to the CPS. These data represent the number of people in each State under 19 years of age whose family income is at or below 200 percent of the poverty threshold appropriate for that family, and who are reported to be not covered by health insurance. The Number of Children for each State was developed by the Bureau of the Census based on the standard methodology used to determine official poverty status and uninsured status in their annual March CPS on these topics.

For FY 2001, the Number of Children is equal to the sum of 50 percent of the number of low-income uninsured children in the State and 50 percent of the number of low-income children in the State.

Column C = State Cost Factor. The State Cost Factor for a State is equal to the sum of: 0.15, and 0.85 multiplied by the ratio of the annual average wages in the health industry per employee for the State to the annual wages per employee in the health industry for the 50 States and the District of Columbia. The State Cost Factor for each State was calculated based on such final wage data for each State as reported, determined, and officially available to HCFA by the BLS in the Department of Labor for each of the most recent 3 years before the beginning of the calendar year in which the fiscal year begins. The FY 2001 allotments were based on final BLS wage data for 1995, 1996, and 1997.

Column D = Product. The Product for each State was calculated by multiplying the Number of Children in Column B by the State Cost Factor in Column C. The sum of the Products for all 50 States and the District of Columbia is below the Products for each State in Column D. The Product for each State and the sum of the Products for all States provides the basis for allotment to States and the District of Columbia.

Column E = Proportion of Total. This is the calculated percentage share for each State of the total allotment available to the 50 States and the District of Columbia. The Percent Share of Total is calculated as the ratio of the Product for each State in Column D to the sum of the products for all 50 States and the District of Columbia below the Products for each State in Column D. In FR Doc. 01-69, published on January 3, 2001, this column was incorrectly calculated and resulted in errors in columns F and G.

Column F = Adjusted Proportion of Total. This is the calculated percentage share for each State of the total allotment available after the application of the floors and ceilings and after any further reconciliation needed to ensure that the sum of the State proportions is equal to one. The three floors specified in the amended statute are: (1) A floor of $2 million divided by the total of the amount available; (2) an annual floor of 90 percent of (that is, 10 percent below) the preceding fiscal year's allotment proportion; and (3) a cumulative floor of 70 percent of (that is, 30 percent below) the FY 1999 allotment proportion. There is also a cumulative ceiling of 145 percent of (that is, 45 percent above) the FY 1999 allotment proportion.

Column G = Allotment. This is the SCHIP allotment for each State, Commonwealth, or Territory for the fiscal year. For each of the 50 States and the District of Columbia, this is determined as the Adjusted Proportion of Total in Column F for the State multiplied by the total amount available for allotment for the 50 States and the District of Columbia for the fiscal year.

For each of the U.S. Territories and Commonwealths, the allotment is determined as the Proportion of Total in Column E multiplied by the total amount available for allotment to the U.S. Territories and Commonwealths. For the U.S. Territories and Commonwealths, the Proportion of Total in Column E is specified in section 2104(c) of the Act. The total amount is then allotted to the U.S. Territories and Commonwealths according to the percentages specified in section 2104 of the Act. There is no adjustment made to the allotments of the U.S. Territories and Commonwealths as they are not subject to the application of the floors and ceiling. As a result, Column F in the table, the Adjusted Proportion of Total, is empty for the U.S. Territories and Commonwealths.

Corrected SCHIP Allotments for Federal Fiscal Year 2001 ¹
A State | B Number of children (00) | C State cost factor | D Product | E Proportion of total ⁴ | F Adjusted proportion of total ⁴ (percent) | G Allotment ²
Alabama | 302 | 0.9659 | 291.71 | 1.52 | 1.65 | $69,311,033
Alaska | 41 | 1.0392 | 42.61 | 0.22 | 0.21 | 8,987,100
Arizona | 542 | 1.0514 | 569.88 | 2.96 | 2.96 | 124,519,004
Arkansas | 277 | 0.8931 | 246.94 | 1.28 | 1.28 | 53,957,231
California | 2,905 | 1.1108 | 3,226.23 | 16.77 | 16.77 | 704,930,926
Colorado | 204 | 1.0017 | 204.34 | 1.06 | 1.06 | 44,648,559
Connecticut | 162 | 1.1165 | 180.31 | 0.94 | 0.94 | 39,398,021
Delaware | 51 | 1.0889 | 54.99 | 0.29 | 0.25 | 10,505,758
District of Columbia | 42 | 1.2960 | 53.78 | 0.28 | 0.28 | 11,751,544
Florida | 978 | 1.0305 | 1,007.86 | 5.24 | 5.24 | 220,217,905
Georgia | 621 | 0.9953 | 618.09 | 3.21 | 3.21 | 135,053,332
Hawaii | 74 | 1.1690 | 85.92 | 0.45 | 0.28 | 11,669,166
Idaho | 110 | 0.8893 | 97.83 | 0.51 | 0.49 | 20,715,109
Illinois | 787 | 0.9966 | 783.85 | 4.07 | 3.80 | 159,838,759
Indiana | 298 | 0.9234 | 274.71 | 1.43 | 1.43 | 60,023,791
Iowa | 178 | 0.8469 | 150.76 | 0.78 | 0.78 | 32,940,215
Kansas | 154 | 0.8719 | 134.27 | 0.70 | 0.70 | 29,337,719
Kentucky | 276 | 0.9276 | 256.02 | 1.33 | 1.33 | 55,939,972
Louisiana | 396 | 0.8876 | 351.06 | 1.82 | 1.95 | 82,017,657
Maine | 68 | 0.9049 | 61.53 | 0.32 | 0.32 | 13,444,691
Maryland | 225 | 1.0460 | 235.34 | 1.22 | 1.22 | 51,422,315
Massachusetts | 292 | 1.0495 | 305.92 | 1.59 | 1.33 | 55,879,946
Michigan | 573 | 1.0074 | 576.71 | 3.00 | 2.84 | 119,473,472
Minnesota | 255 | 0.9824 | 250.02 | 1.30 | 0.88 | 37,042,610
Mississippi | 289 | 0.8882 | 256.24 | 1.33 | 1.33 | 55,987,988
Missouri | 326 | 0.9204 | 299.59 | 1.56 | 1.56 | 65,460,375
Montana | 83 | 0.8415 | 69.42 | 0.36 | 0.36 | 15,169,315
Nebraska | 102 | 0.8563 | 87.34 | 0.45 | 0.45 | 19,084,374
Nevada | 120 | 1.1954 | 143.45 | 0.75 | 0.75 | 31,344,200
New Hampshire | 58 | 0.9826 | 56.99 | 0.30 | 0.28 | 11,932,994
New Jersey | 403 | 1.1237 | 452.28 | 2.35 | 2.35 | 98,823,044
New Mexico | 219 | 0.9225 | 201.56 | 1.05 | 1.21 | 50,766,995
New York | 1,360 | 1.0841 | 1,473.80 | 7.66 | 7.66 | 322,025,819
North Carolina | 501 | 0.9899 | 495.95 | 2.58 | 2.47 | 103,718,942
North Dakota | 48 | 0.8697 | 41.31 | 0.21 | 0.16 | 6,575,656
Ohio | 675 | 0.9650 | 650.87 | 3.38 | 3.38 | 142,214,540
Oklahoma | 262 | 0.8523 | 222.88 | 1.16 | 1.64 | 69,088,406
Oregon | 228 | 1.0063 | 229.45 | 1.19 | 1.19 | 50,134,100
Pennsylvania | 638 | 0.9969 | 636.01 | 3.31 | 3.31 | 138,968,854
Rhode Island | 44 | 0.9785 | 42.57 | 0.22 | 0.22 | 9,300,803
South Carolina | 294 | 1.0055 | 295.61 | 1.54 | 1.54 | 64,591,234
South Dakota | 43 | 0.8703 | 37.42 | 0.19 | 0.19 | 8,177,039
Tennessee | 446 | 0.9991 | 445.11 | 2.31 | 2.05 | 86,296,823
Texas | 2,028 | 0.9277 | 1,880.82 | 9.77 | 10.76 | 452,531,213
Utah | 153 | 0.9059 | 138.14 | 0.72 | 0.72 | 30,184,401
Vermont | 29 | 0.8696 | 25.22 | 0.13 | 0.11 | 4,611,995
Virginia | 350 | 0.9885 | 345.50 | 1.80 | 1.80 | 75,491,290
Washington | 314 | 0.9467 | 296.78 | 1.54 | 1.45 | 60,869,643
West Virginia | 108 | 0.8961 | 96.77 | 0.50 | 0.50 | 21,144,989
Wisconsin | 241 | 0.9438 | 226.99 | 1.18 | 1.18 | 49,597,970
Wyoming | 38 | 0.8779 | 32.92 | 0.17 | 0.17 | 7,193,664
Total states only |  |  | 19,241.72 | 100.00 | 100.00 | 4,204,312,500
Allotments for commonwealths and territories ³
Puerto Rico |  |  |  | 91.60 |  | 41,116,950
Guam |  |  |  | 3.50 |  | 1,571,063
Virgin Islands |  |  |  | 2.60 |  | 1,167,075
American Samoa |  |  |  | 1.20 |  | 538,650
N. Mariana Islands |  |  |  | 1.10 |  | 493,763
Total commonwealths and territories only | 100.00 |  | 44,887,500
Total states and commonwealths and territories | 4,249,200,000
(¹) Corrects chart that was originally published in the Federal Register on January 3, 2001 on pages 379-380.
(²) Total amount available for allotment to the 50 States and the District of Columbia is $4,204,312,500; determined as the fiscal year appropriation ($4,275,000,000) reduced by the total amount available for allotment to the Commonwealths and Territories under section 2104(c) of the Act ($10,687,500) and amounts for Special Diabetes Grants ($60,000,000) under sections 4921 and 4922 of the Balanced Budget Act of 1997 (BBA 1997) (Public Law 105-33).
(³) Total amount available for allotment to the Commonwealths and Territories is $10,687,500 (determined as .25 percent of $4,275,000,000, the fiscal year appropriation) plus $34,200,000 as specified in section 2104(c)(4)(B) of the Act.
(⁴) Percent share of total amount available for allotment to the Commonwealths and Territories is as specified in section 2104(c) of the Act.

(Authority: Section 1102 of the Social Security Act, 42 U.S.C. 1302)

(Catalog of Federal Domestic Assistance Program No. 93.767, State Children's Health Insurance Program)

Dated: January 12, 2001.
Brian P. Burns,
Deputy Assistant Secretary for Information Resources Management.

[FR Doc. 01-1690 Filed 1-19-01; 8:45 am]

BILLING CODE 4120-01-P